DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed three-year extension and revisions to Form FE 746R, “The Natural Gas Import and Export Authorization Application and Monthly Reports,” which includes the elimination of the associated quarterly reporting requirement.

DATES: Comments must be filed by October 10, 2006. If you anticipate difficulty in submitting comments within that period, contact the person listed below as soon as possible.

ADDRESSES: Send comments to Yvonne Caudillo. To ensure receipt of the comments by the due date, submission by FAX (202-586-6050) or e-mail (yvonne.caudillo@hq.doe.gov) is recommended. The mailing address is The Office of Fossil Energy, Natural Gas Regulatory Activities, FE-34, Forrestal Building, U.S. Department of Energy, Washington, DC 20585. Alternatively, Ms. Caudillo may be contacted by telephone at 202-586-4587.

FOR FURTHER INFORMATION CONTACT: Requests for additional information or copies of any forms and instructions should be directed to Ms. Caudillo at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

DOE's Office of Fossil Energy (FE) is delegated the authority to regulate natural gas imports and exports under section 3 of the Natural Gas Act of 1938, 15 U.S.C. 717b. In order to carry out its delegated responsibility, FE requires those persons seeking to import or export natural gas to file an application containing the basic information about the scope and nature of the proposed import/export activity. Historically, FE has collected information on a quarterly and monthly basis regarding import and export transactions. That information has been used to ensure compliance with the terms and conditions of the authorizations. In addition, the data are used to monitor North American gas trade, which, in turn, enables the Federal government to perform market and regulatory analyses; improve the capability of industry and the government to respond to any future energy-related supply problems; and keep the general public informed of international natural gas trade.

II. Current Actions

DOE will be requesting a three-year extension of approval to its natural gas import and export application information collection for both long-term and blanket (short-term) authorizations. In addition, DOE will be requesting a three-year extension and a revision of its existing information reporting requirements for import/export transactions under an approved application by revising the monthly reporting and eliminating the quarterly report.

DOE has undertaken a Natural Gas Data Collection Initiative to improve the way DOE gathers and disseminates information about the use and origin of natural gas supplies in the U.S. More specifically, DOE is continually seeking to improve the timeliness of the published information and to streamline the reporting process for the natural gas import/export authorization holders. Historically, DOE has collected critical natural gas transaction information (i.e., country of origin/destination, international point of entry/exit, and volume imported/exported) on a monthly basis, and has collected more detailed natural gas information (i.e., country of origin/destination, international point of entry/exit; name of supplier; volume; price; transporter; purchaser; geographic market served; and duration of supply contract) on a quarterly basis. Under this Initiative, DOE plans to collect the detailed natural gas transaction information (which is currently collected on a quarterly basis) on a monthly basis. DOE also plans to eliminate the quarterly reporting requirement.

This proposed change in reporting requirements would reduce the burden on the authorization holders by eliminating the requirement of filing two different reports on two different reporting schedules. This proposed change would also streamline the data collection and publication process and make it possible for DOE to provide the government, the industry and the general public with more detailed information on a more timely basis. DOE will establish an Internet-based reporting option for the proposed monthly reporting. DOE will treat the monthly information as public information, which conforms to the historical treatment of all natural gas import and export information filed pursuant to the terms of all natural gas import/export authorizations.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for authorization applications is estimated to average 6 hours per application. Public reporting burden for the proposed monthly reporting of transaction information on natural gas imports and exports is estimated to average 3 hours per response. In addition, the elimination of the quarterly report requirement is estimated to reduce the public reporting burden by an average of 5 hours per response per quarter. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, August 4, 2006.
Jay H. Casselberry,
Agency Clearance Officer, Energy Information Administration.

[FR Doc. E6-13035 Filed 8-9-06; 8:45 am]

BILLING CODE 6450-01-P